DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation, and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) #Depth in feet above ground Modified | Communities affected
La Paz County, Arizona and Incorporated Areas
Docket No.: FEMA-B-7456
Arroyo La Paz | Approximately 200 feet above confluence with North Levee Channel | +288 | La Paz County (Unincorporated Areas).
| Approximately 75 feet upstream of Parker-Poston Road | +306
Cinnabar Wash | Approximately 100 feet above confluence with Colorado River | +264 | La Paz County (Unincorporated Areas).
| Approximately 1.00 miles above confluence with Colorado River | +326
Colorado River | Approximately 13.5 miles upstream of Adobe Lake | +202 | La Paz County (Unincorporated Areas).
| Approximately 0.38 mile downstream of Parker Dam | +379 | Parker, Town of Colorado River Indian Reservation.
Ehrenberg Wash | Approximately 300 feet downstream of Parker-Poston Road | +282 | La Paz County (Unincorporated Areas).
| Approximately 0.43 mile upstream of Parker-Poston Road | +332
Gonzales Wash | Approximately 115 feet above confluence with North Levee Channel | +280 | La Paz County (Unincorporated Areas).
| Approximately 50 feet upstream of Parker-Poston Road | +288
Unnamed Stream 1 | Approximately 125 feet above confluence with South Levee Channel | +266 | La Paz County (Unincorporated Areas).
| Approximately 1,560 feet upstream of Parker-Poston Road | +302
Unnamed Stream 2 | Approximately 300 feet above confluence with South Levee Channel | +280 | La Paz County (Unincorporated Areas).
| Approximately 0.73 mile above confluence with South Levee Channel | +340
Unnamed Stream 3 | Approximately 225 feet above confluence with South Levee Channel | +282 | La Paz County (Unincorporated Areas).
| Approximately 0.44 mile upstream of Parker-Poston Road | +334
Unnamed Stream 4 | Approximately 292 feet above confluence with North Levee Channel | +288 | La Paz County (Unincorporated Areas).
| Approximately 856 feet upstream of Parker-Poston Road | +316
Shallow Flooding | West of Parker-Poston Road to South of Colorado River Indian Tribe | #2 | La Paz County (Unincorporated Areas).
* National Geodetic Vertical Datum.
+ North American Vertical Datum.
# Depth in feet above ground.
ADDRESSES
La Paz County (Unincorporated Areas)
Maps available for inspection at: La Paz County Community Development Dept., 1112 Joshua Avenue, Parker, Arizona 85344.
Town of Parker
Maps available for inspection at: Parker Town Hall, 1314 11th Street Parker, AZ 85344.
Colorado River Indian Reservation
Yuma County, Arizona and Incorporated Areas
Docket No.: FEMA-D-7642
Colorado River | At the downstream county boundary | +94 | Yuma County (Unincorporated Areas), Cities of Yuma and San Luis.
| At the upstream county boundary | +202
* National Geodetic Vertical Datum.
+ North American Vertical Datum.
# Depth in feet above ground.
ADDRESSES
Yuma County (Unincorporated Areas)
Maps available for inspection at the Yuma County Community Department of Development Services, 2351 West 26th Street, Yuma, Arizona.
City of Yuma
Maps available for inspection at the Yuma City Department of Development Services, One City Plaza, Yuma, Arizona.
City of San Luis
Maps available for inspection at the San Luis City Public Works Administration Office, 751 North 4th Avenue, San Luis, Arizona.
Riverside County, California and Incorporated Areas
Docket Nos.: FEMA-B-7742 and FEMA-D-7828
Colorado River | At the downstream corporate limits of Riverside County | +244 | Colorado River Indian Tribe, Unincorporated Areas of Riverside County.
| At the upstream corporate limits of Riverside County | +338
* National Geodetic Vertical Datum.
+ North American Vertical Datum.
| # Depth in feet above ground.
ADDRESSES
Colorado River Indian Tribe
Maps available for inspection at the Colorado River Indian Tribal Offices, 26600 Mohave Road, Parker, Arizona.
Unincorporated Areas of Riverside County
Maps available for inspection at the Riverside County Flood Control District Office, 1995 Market Street, Riverside, California.
San Bernardino County, California and Incorporated Areas
Docket Nos.: FEMA-B-7742 and FEMA-D-7828
Colorado River | At the downstream corporate limits of San Bernardino County | +338 | City of Needles, Colorado River Indian Tribe, Fort Mojave Indian Tribe, Unincorporated Areas of San Bernardino County.
| At the upstream corporate limits of San Bernardino County | +485
Hooke Creek | At confluence with Fern Canyon | +4,877 | Unincorporated Areas of San Bernardino County.
| Approximately 500 feet upstream of Hooke Road | +5,238
* National Geodetic Vertical Datum.
+ North American Vertical Datum.
# Depth in feet above ground.
ADDRESSES
City of Needles
Maps are available for inspection at Needles City Hall, 817 Third Street, Needles, California.
Colorado River Indian Tribe
Maps are available for inspection at Colorado River Indian Tribal Offices, 26600 Mohave Road, Parker, Arizona.
Fort Mojave Indian Tribe
Maps are available for inspection at Mohave Indian Tribal Offices, 500 Merriman Avenue, Needles, California.
Unincorporated Areas of San Bernardino County
Maps are available for inspection at San Bernardino County Public Works Department, 825 East Third Street, San Bernardino, California.
Middlesex County, Connecticut (All Jurisdictions)
Docket No.: FEMA-B-7746
Carr Brook | To approximately 1,130 feet upstream from Strickland Road | +25 | Town of Portland.
| From confluence with Connecticut River | +25
Carr Brook Tributary A | From confluence with Carr Brook | +25 | Town of Portland.
| To approximately 0.45 mile upstream of Bartlett Street | +25
Chestnut Brook | From mouth at Mattabesset River | +23 | Town of Cromwell.
| To approximately 40 feet upstream of Route 9 | +23
Coginchaug River | At confluence with Mattabesset River | +23 | City of Middletown.
| Approximately 450 feet upstream of State Route 66 (Washington Street) | +23
Coles Road Brook | From mouth at Mattabesset River | +23 | Town of Cromwell.
| To approximately 26 feet downstream of Route 372 | +23
Connecticut River | Approximately 1.17 miles downstream of confluence of Clark Creek | +11 | Town of Cromwell, City of Middletown, Town of East Haddam, Town of East Hampton, Town of Haddam, Town of Portland.
| Approximately 0.59 mile upstream of confluence of Hales Brook | +25
Cromwell Creek | From confluence with Connecticut River | +24 | Town of Cromwell.
| To approximately 1,300 feet upstream of South Street | +24
East Swamp Brook | At confluence with Swamp Brook | +23 | City of Middletown.
| Approximately 350 feet upstream of Tiger Lane | +23
Hales Brook | From confluence with Connecticut River | +25 | Town of Portland.
| To approximately 0.76 mile upstream of confluence | +25
Mattabesset River | At confluence with Connecticut River | +23 | City of Middletown, Town of Cromwell.
| Approximately 500 feet downstream of Berlin Road | +23
Mill Creek | At confluence with Connecticut River | +15 | Town of Haddam.
| Approximately 1,200 feet upstream of Route 9A | +15
Miner Brook | At confluence with Mattabesset River | +23 | City of Middletown.
Moodus River | At confluence with Salmon River | +14 | Town of East Haddam.
| At downstream side of Johnsonville Road | +14
Ponset Brook | At confluence with Connecticut River | +17 | Town of Haddam.
| Approximately 0.40 mile upstream of confluence with Connecticut River | +17
Reservoir Brook | From confluence with Connecticut River | +25 | Town of Portland.
| To approximately 25 feet downstream of Route 17 | +25
Salmon River | At confluence with Connecticut River | +14 | Town of Haddam, Town of East Haddam.
| At downstream side of Leesville Dam | +14
Sawmill Brook | At confluence with Mattabesset River | +23 | City of Middletown.
| Approximately 1,270 feet upstream of confluence with Mattabesset River | +23
Shunpike Creek | Mouth at Mattabesset River | +23 | Town of Cromwell.
| To approximately 0.26 mile upstream of mouth at Mattabesset River | +23
Succor Brook | At confluence with Connecticut River | +12 | Town of East Haddam.
| Approximately 125 feet upstream of Lumber Yard Road | +12
Sumner Brook | At confluence with Connecticut River | +23 | City of Middletown.
| At upstream side of State Routes 9 and 17 culvert | +23
Swamp Brook | At confluence with Mattabesset River | +23 | City of Middletown.
| At confluence of East Swamp and West Swamp Brooks | +23
West Swamp Brook | At upstream side of Kaplan Drive | +23 | City of Middletown.
| At confluence with Swamp Brook | +23
Willow Brook | From mouth at Mattabesset River | +23 | Town of Cromwell.
| To East View Drive | +23
* National Geodetic Vertical Datum.
+ North American Vertical Datum.
# Depth in feet above ground.
ADDRESSES
City of Middletown
Maps are available for inspection at City of Middletown Planner's Office, 245 deKoven Drive, Middletown, Connecticut.
Town of Cromwell
Maps are available for inspection at Town of Cromwell Planner's Office, 41 West Street, Cromwell, Connecticut.
Town of East Haddam
Maps are available for inspection at Town of East Haddam Planner's Office, 7 Main Street, East Haddam, Connecticut.
Town of East Hampton
Maps are available for inspection at Town of East Hampton Planning Administrator's Office, 20 East High Street, East Hampton, Connecticut.
Town of Haddam
Maps are available for inspection at Town of Haddam Engineer's Office, 30 Field Park Drive, Haddam, Connecticut.
Town of Portland
Maps are available for inspection at Town of Portland Planner's Office, 33 East Main Street, Portland, Connecticut.
Hillsborough County, Florida and Incorporated Areas
Docket Nos.: FEMA-D-7686 and FEMA-B-7746
Alderman Creek | At the confluence with Little Manatee River | +82 | Hillsborough County (Unincorporated Areas).
| Approximately 2.4 miles upstream of Taylor Grill Road | +123
Archie Creek | Approximately 200 feet downstream of 78th Street South | +11 | Hillsborough County (Unincorporated Areas).
| Approximately 0.4 mile upstream of Interstate 75 | +20
Backwater from Cypress Creek | Approximately 900 feet southwest of the intersection of Clubhouse Drive and Kings Boulevard | +30 | Hillsborough County (Unincorporated Areas).
Baker Canal | At the confluence with Lake Thonotosassa Tributary and Baker Creek | +44 | Hillsborough County (Unincorporated Areas).
| Approximately 150 feet downstream of Acker Road | +84
Baker Canal Tributary 1 | At the confluence with Baker Canal | +44 | Hillsborough County (Unincorporated Areas).
| At Taylor Road | +44
Baker Canal Tributary 2 | At the confluence with Baker Canal | +44 | Hillsborough County (Unincorporated Areas).
| Approximately 0.5 mile upstream of Gallagher Road | +64
Baker Canal Tributary 3 | At the confluence with Baker Canal | +44 | Hillsborough County (Unincorporated Areas).
| Approximately 1,100 feet upstream of U.S. Highway 92 | +57
Baker Canal Tributary 5 | At the confluence with Baker Canal | +44 | Hillsborough County (Unincorporated Areas).
| At the upstream side of McIntosh Road | +57
Baker Canal Tributary 6 | At the confluence with Baker Canal | +46 | Hillsborough County (Unincorporated Areas).
| At the downstream side of McIntosh Road | +57
Baker Canal Tributary 7 | At the confluence with Baker Canal | +73 | Hillsborough County (Unincorporated Areas).
| Approximately 0.6 mile upstream of Shady Stream Drive | +83
Baker Canal Tributary 8 | At the confluence with Baker Canal | +76 | Hillsborough County (Unincorporated Areas).
| Approximately 0.7 mile upstream of Walden Sheffield Road | +96
Baker/Pemberton Creek Tributary 1 | At the confluence with Baker Creek and Pemberton Creek | +56 | Hillsborough County (Unincorporated Areas).
| Approximately 0.9 mile upstream of Emerald Acres Avenue | +72
Baker/Pemberton Creek Tributary 2 | At the confluence with Baker/Pemberton Creek Tributary 1 | +56 | Hillsborough County (Unincorporated Areas).
| Approximately 0.7 mile upstream of the confluence with Baker/Pemberton Creek Tributary 1 | +60
Baker/Pemberton/Mill Creek | At the confluence with Baker Canal and Lake Thonotosassa Tributary | +44 | Hillsborough County (Unincorporated Areas), City of Plant City.
| Approximately 200 feet upstream of North Wheeler Street | +115
Bassett Branch | At the confluence with Hillsborough River | +37 | Hillsborough County (Unincorporated Areas), City of Tampa.
| At the Hillsborough County boundary | +63
Big Bend | At the confluence with Bullfrog Creek | +31 | Hillsborough County (Unincorporated Areas).
| Approximately 0.8 mile upstream of Simmons Loop | +52
Blackwater Creek | At the confluence with Hillsborough River | +49 | Hillsborough County (Unincorporated Areas).
| Approximately 0.9 mile upstream of Canaan Avenue | +109
Brooker Creek | At the Hillsborough County boundary | +27 | Hillsborough County (Unincorporated Areas).
| At Farmer Road | +39
Brushy Creek | At the confluence with Rocky Creek | +25 | Hillsborough County (Unincorporated Areas).
| Approximately 1,350 feet upstream of Dale Marby Highway North | +54
Brushy Creek Branch 2 | At the confluence with Brushy Creek | +39 | Hillsborough County (Unincorporated Areas).
| Approximately 30 feet upstream of Hutchison Road | +51
Brushy Creek Tributary 1 | At the confluence with Brushy Creek | +47 | Hillsborough County (Unincorporated Areas).
| Approximately 50 feet upstream of Country Lake Drive | +51
Bullfrog Creek | Approximately 1.4 miles upstream of the railroad | +11 | Hillsborough County (Unincorporated Areas).
| Approximately 0.7 mile upstream of Edina Street | +92
Bullfrog Creek Tributary 1 | At the confluence with Bullfrog Creek | +26 | Hillsborough County (Unincorporated Areas).
| Approximately 50 feet upstream of Lincoln Road | +43
Bullfrog Creek Tributary 2 | At the confluence with Bullfrog Creek | +58 | Hillsborough County (Unincorporated Areas).
| Approximately 0.4 mile upstream of West Lake Drive | +67
Bullfrog Creek Tributary 3 | At the confluence with Bullfrog Creek | +64 | Hillsborough County (Unincorporated Areas).
| Approximately 40 feet upstream of County Road 672 | +130
Campbell Branch | At the confluence with Flint Creek | +38 | Hillsborough County (Unincorporated Areas).
| Approximately 1,500 feet downstream of Branch Forbes Road | +90
Campbell Branch Tributary 1 | At the confluence with Campbell Branch | +50 | Hillsborough County (Unincorporated Areas).
| Approximately 50 feet downstream of Thonotosassa Road | +52
Carlton Branch | At the confluence with Little Manatee River | +46 | Hillsborough County (Unincorporated Areas).
| Approximately 0.3 mile upstream of Huckleberry Road | +118
Carlton Branch Tributary 1 | At the confluence with Carlton Branch | +60 | Hillsborough County (Unincorporated Areas).
| Approximately 50 feet upstream of Leonard Lee Road | +92
Carlton Branch Tributary 2 | At the confluence with Carlton Branch | +69 | Hillsborough County (Unincorporated Areas).
| Approximately 0.5 mile upstream of Balm Wimauma Road | +116
Carlton Branch Tributary 3 | At the confluence with Carlton Branch | +88 | Hillsborough County (Unincorporated Areas).
| Approximately 25 feet upstream of Sweat Loop Road | +114
Carlton Branch Tributary 3.1 | At the confluence with Carlton Branch Tributary 3 | +89 | Hillsborough County (Unincorporated Areas).
| Approximately 50 feet upstream of Balm Wimauma Road | +108
Clay Gulley East | At the confluence with Hillsborough River | +36 | Hillsborough County (Unincorporated Areas).
| At Dormany Road | +75
Clay Gulley East Tributary 2 | At the confluence with Clay Gulley East | +58 | Hillsborough County (Unincorporated Areas).
| At Five Acre Road | +60
Clay Gulley East Tributary 4 | At the confluence with Clay Gulley East Tributary 6 | +48 | Hillsborough County (Unincorporated Areas).
| Approximately 50 feet upstream of Five Acre Road | +58
Clay Gulley East Tributary 5 | At the confluence with Clay Gulley East | +45 | Hillsborough County (Unincorporated Areas).
| Approximately 50 feet upstream of Brunt Barn Avenue | +68
Clay Gulley East Tributary 6 | At the confluence with Clay Gulley East | +45 | +Hillsborough County (Unincorporated Areas).
| Approximately 0.9 miles upstream of the confluence with Clay Gulley East Tributary 4 | +62
Clay Gulley East Tributary 7 | At the confluence with Clay Gulley East | +45 | Hillsborough County (Unincorporated Areas).
| Approximately 450 feet upstream of Warren Byrd Lane | +49
Clay Gulley East Tributary 8 | At the confluence with Clay Gulley East | +67 | Hillsborough County (Unincorporated Areas).
| Approximately 0.7 mile upstream of the confluence with Clay Gulley East | +72
Clay Gulley West | At the confluence with Hillsborough River | +35 | Hillsborough County (Unincorporated Areas), City of Tampa.
| At the Hillsborough County Boundary | +59
Cow House Creek | At the confluence with Hillsborough River | +27 | Hillsborough County (Unincorporated Areas), City of Temple Terrace.
| Approximately 2.7 miles upstream of the confluence of Tampa Bypass Canal | +35
Curiosity Creek | At the confluence with Little Manatee River | +9 | Hillsborough County (Unincorporated Areas).
| Approximately 1.2 miles upstream of Lightfoot Road | +17
Curiosity Creek (near City of Tampa) | Approximately 100 feet upstream of Fowler Avenue | +32 | Hillsborough County (Unincorporated Areas).
| Approximately 500 feet upstream of West Bearss Avenue | +48
Curiosity Creek Tributary 1 | At the confluence with Curiosity Creek | +11 | Hillsborough County (Unincorporated Areas).
| Approximately 50 feet upstream of Pinetree Circle | +16
Curiosity Creek Tributary 1.1 | At the confluence with Curiosity Creek Tributary 1 | +15 | Hillsborough County (Unincorporated Areas).
| Approximately 0.7 mile upstream of Butch Cassidy Trail | +18
Cypress Creek | At the confluence with Little Manatee River | +14 | Hillsborough County (Unincorporated Areas).
| Approximately 50 feet upstream of 19th Avenue NE | +39
Cypress Creek (near City of Tampa) | At the confluence with Hillsborough River | +27 | Hillsborough County (Unincorporated Areas), City of Tampa.
| Approximately 0.7 mile downstream of County Line Road | +46
Delaney Creek | Approximately 1,000 feet downstream of Maydell Drive | +11 | Hillsborough County (Unincorporated Areas).
| Approximately 1,500 feet upstream of Lakewood Drive South | +31
Delaney Creek Lateral C | At the confluence with Delaney Creek | +19 | Hillsborough County (Unincorporated Areas).
| Approximately 20 feet upstream of Rideout Road | +24
Delaney Creek Lateral D | At the confluence with Delaney Creek | +20 | Hillsborough County (Unincorporated Areas).
| Approximately 700 feet upstream of Ridein Road | +23
Delaney Creek Lateral E | At the confluence with Delaney Creek | +28 | Hillsborough County (Unincorporated Areas).
| Approximately 800 feet upstream of Palm River Road | +28
Delaney Creek Tributary 1 | At the upstream side of Causeway Boulevard | +11 | Hillsborough County (Unincorporated Areas).
| Approximately 50 feet upstream of Maydell Drive | +12
Delaney Creek Tributary 2 | At the confluence with Delaney Creek | +17 | Hillsborough County (Unincorporated Areas).
| Approximately 900 feet upstream of Robindale Road | +20
Dug Creek | At the confluence with Little Manatee River | +18 | Hillsborough County (Unincorporated Areas).
| Approximately 0.2 mile upstream of State Road 674/Sun City Center Boulevard | +69
Dug Creek Tributary 1 | At the confluence with Dug Creek | +20 | Hillsborough County (Unincorporated Areas).
| Approximately 0.4 mile upstream of Ed Lane | +47
Dug Creek Tributary 2 | At the confluence with Dug Creek | +32 | Hillsborough County (Unincorporated Areas).
| Approximately 0.2 mile upstream of West Lake Drive | +69
Dug Creek Tributary 3 | At the confluence with Dug Creek | +60 | Hillsborough County (Unincorporated Areas).
| Approximately 50 feet upstream of West Lake Drive | +84
East Canal | At the confluence with Itchepackesassa Creek | +96 | Hillsborough County (Unincorporated Areas), City of Plant City.
| At the downstream side of Frontage Road | +114
East Canal Tributary | At the confluence with East Canal | +119 | City of Plant City.
| Approximately 700 feet upstream of Crystal Terrace | +133
East Canal | At the upstream side of Frontage Road | +118 | City of Plant City.
Upstream of Frontage Road | Approximately 15 feet upstream of Alsobrook Street | +127
Flint Creek | At the confluence with Hillsborough River | +35 | Hillsborough County (Unincorporated Areas).
| Approximately 160 feet downstream of Kelso Road | +38
Gulley Branch | At the confluence with Little Manatee River | +39 | Hillsborough County (Unincorporated Areas).
| Approximately 2.5 miles upstream of the confluence with Little Manatee River | +94
Half Moon Lake Branch | At the confluence with Rocky Creek | +33 | Hillsborough County (Unincorporated Areas).
| Approximately 50 feet downstream of Vanderbilt Drive | +43
Hillsborough Bay | Areas within MacDill Air Force Base | +10 | Hillsborough County (Unincorporated Areas), City of Tampa.
Hillsborough River | Approximately 500 feet downstream of Temple Terrace | +23 | Hillsborough County (Unincorporated Areas), City of Tampa, City of Temple Terrace.
| Approximately 700 feet upstream of the confluence of Big Ditch Creek | +52
Hollomans Branch | At the confluence with Hillsborough River | +35 | Hillsborough County (Unincorporated Areas).
| Approximately 0.7 mile upstream of West Knights Griffin Road | +97
Hollomans Branch Tributary 1 | At the confluence with Hollomans Branch | +69 | Hillsborough County (Unincorporated Areas).
| Approximately 50 feet upstream of Dormany Road | +76
Hollomans Branch Tributary 2 | At the confluence with Hollomans Branch | +62 | Hillsborough County (Unincorporated Areas).
| At the downstream side of Platt Road | +91
Hollomans Branch Tributary 3 | At the confluence with Hollomans Branch | +55 | Hillsborough County (Unincorporated Areas).
| Approximately 0.6 mile upstream of Knights Griffin Road | +71
Howard Prairie Branch | At the confluence with Little Manatee River | +57 | Hillsborough County (Unincorporated Areas).
| Approximately 40 feet upstream of South County Road 39 | +109
Howard Prairie Branch Tributary 1 | At the confluence with Howard Prairie Branch | +57 | Hillsborough County (Unincorporated Areas).
| Approximately 3.2 miles upstream of Grange Hall Loop | +73
Howard Prairie Branch Tributary 2 | At the confluence with Howard Prairie Branch | +76 | Hillsborough County (Unincorporated Areas).
| Approximately 50 feet upstream of South County Road 39 | +117
Itchepackesassa Creek | At the confluence with Blackwater Creek | +88 | Hillsborough County (Unincorporated Areas).
| Approximately 1.3 miles upstream of Knights Griffin Road | +112
Itchepackesassa Creek Tributary 1 | At the confluence with Itchepackesassa Creek | +104 | Hillsborough County (Unincorporated Areas).
| Approximately 1.1 miles upstream of Knights Griffin Road | +110
Itchepackesassa Creek Tributary 2 | At the confluence with Itchepackesassa Creek | +101 | Hillsborough County (Unincorporated Areas).
| Approximately 0.5 mile upstream of the confluence with Itchepackesassa Creek | +103
Lake Thonotosassa Tributary | At Thonotosassa Road | +38 | Hillsborough County (Unincorporated Areas).
| At the confluence of Baker Creek and Baker Canal | +44
Little Bullfrog Creek | At the confluence with Bullfrog Creek | +33 | Hillsborough County (Unincorporated Areas).
| Approximately 0.6 mile upstream of Big Bend Road | +80
Little Manatee River | Approximately 800 feet downstream of I-75 | +9 | Hillsborough County (Unincorporated Areas).
| Approximately 2.2 miles upstream of Taylor Gill Road | +99
Little Manatee River Tributary 2.2 | At the confluence with Little Manatee River Tributary 2 | +9 | Hillsborough County (Unincorporated Areas).
| Approximately 600 feet upstream of Butch Cassidy Trail | +28
Little Manatee River Tributary 2.1 | At the confluence with Little Manatee River Tributary 2 | +9 | Hillsborough County (Unincorporated Areas).
| Approximately 980 feet upstream of Lightfoot Road | +17
Little Manatee River Tributary 1 | At the confluence with Little Manatee River | +9 | Hillsborough County (Unincorporated Areas).
| At 30th Street SE | +9
Little Manatee River Tributary 10 | At the confluence with Little Manatee River | +57 | Hillsborough County (Unincorporated Areas).
| Approximately 1.1 miles upstream of State Road 674 | +105
Little Manatee River Tributary 11 | At the confluence with Little Manatee River | +61 | Hillsborough County (Unincorporated Areas).
| Approximately 1.6 miles upstream of the confluence with Little Manatee River | +83
Little Manatee River Tributary 12 | At the confluence with Little Manatee River | +72 | Hillsborough County (Unincorporated Areas).
| Approximately 50 feet upstream of State Road 674 | +116
Little Manatee River Tributary 13 | At the confluence with Little Manatee River | +72 | Hillsborough County (Unincorporated Areas).
| Approximately 0.3 mile upstream of State Road 674 | +120
Little Manatee River Tributary 2 | At the confluence with Little Manatee River | +9 | Hillsborough County (Unincorporated Areas).
| Approximately 50 feet upstream of U.S. Route 301 | +21
Little Manatee River Tributary 3 | At the confluence with Little Manatee River | +15 | Hillsborough County (Unincorporated Areas).
| Approximately 600 feet upstream of Palmetto Road | +19
Little Manatee River Tributary 4 | At the confluence with Little Manatee River | +35 | Hillsborough County (Unincorporated Areas).
| Approximately 1.3 miles upstream of the confluence with Little Manatee River | +54
Little Manatee River Tributary 5 | At the confluence with Little Manatee River | +36 | Hillsborough County (Unincorporated Areas).
| Approximately 1.4 miles upstream of the confluence of Little Manatee River Tributary 5.1 | +85
Little Manatee River Tributary 5.1 | At the confluence with Little Manatee River Tributary 5 | +53 | Hillsborough County (Unincorporated Areas).
| Approximately 0.9 mile upstream of the confluence with Little Manatee River Tributary 5 | +92
Little Manatee River Tributary 6 | At the confluence with Little Manatee River | +40 | Hillsborough County (Unincorporated Areas).
| Approximately 0.3 mile upstream of Leonard Lee Road | +56
Little Manatee River Tributary 7 | At the confluence with Little Manatee River | +44 | Hillsborough County (Unincorporated Areas).
| Approximately 1.1 miles upstream of the confluence of Little Manatee River Tributary 7.1 | +79
Little Manatee River Tributary 7.1 | At the confluence with Little Manatee River Tributary 7 | +53 | Hillsborough County (Unincorporated Areas).
| Approximately 1.0 mile upstream of the confluence with Little Manatee River Tributary 7 | +81
Little Manatee River Tributary 8 | At the confluence with Little Manatee River | +50 | Hillsborough County (Unincorporated Areas).
| Approximately 0.5 mile upstream of Grange Hall Loop | +72
Little Manatee River Tributary 9 | At the confluence with Little Manatee River | +51 | Hillsborough County (Unincorporated Areas).
| Approximately 1.6 miles upstream of Grange Hall Loop | +59
Lower Sweetwater Creek Tributary 1 | Approximately 500 feet downstream of Sawyer Road | +10 | Hillsborough County (Unincorporated Areas).
| Approximately 800 feet upstream of Paris Street West | +33
Mil Lake Tributary | Approximately 0.4 mile downstream of Livingston Avenue | +35 | Hillsborough County (Unincorporated Areas).
| Approximately 65 feet downstream of Livingston Avenue | +42
Mill Creek Tributary 1 | At the confluence with Mill Creek | +105 | Hillsborough County (Unincorporated Areas).
| Approximately 25 feet upstream of Bennett Road | +108
Mill Creek Tributary 2 | At the confluence with Mill Creek | +106 | Hillsborough County (Unincorporated Areas), City of Plant City.
| Approximately 0.6 mile upstream of Interstate 4 | +108
New River | At the confluence with Hillsborough River | +41 | Hillsborough County (Unincorporated Areas), City of Tampa.
| Approximately 2,000 feet upstream of Morris Bridge Road | +63
New River East | At the confluence with New River | +47 | Hillsborough County (Unincorporated Areas).
| At the Hillsborough County boundary | +66
North Archie Creek | Approximately 1,500 feet downstream of 78th Street South | +11 | Hillsborough County (Unincorporated Areas).
| At the upstream side of Valhalla Pond Drive | +28
North Lake Tributary | At the upstream side of Pebble Beach Boulevard | +38 | Hillsborough County (Unincorporated Areas).
| Approximately 0.3 mile upstream of Cherry Hills Drive | +54
North Prong Bullfrog Creek | At the confluence with Bullfrog Creek | +53 | Hillsborough County (Unincorporated Areas).
| Approximately 1.4 miles upstream of the confluence with Bullfrog Creek | +85
Pemberton Creek Tributary 1 | At the confluence with Pemberton Creek | +78 | Hillsborough County (Unincorporated Areas).
| At U.S. Highway 92 | +83
Pierce Branch | At the confluence with Little Manatee River | +50 | Hillsborough County (Unincorporated Areas).
| Approximately 2.1 miles upstream of the confluence of Pierce Branch Tributary 3 | +124
Pierce Branch Tributary 1 | At the confluence with Pierce Branch | +79 | Hillsborough County (Unincorporated Areas).
| Approximately 0.8 mile upstream of the confluence with Pierce Branch | +110
Pierce Branch Tributary 2 | At the confluence with Pierce Branch | +99 | Hillsborough County (Unincorporated Areas).
| Approximately 1.9 miles upstream of the confluence with Pierce Branch | +117
Pierce Branch Tributary 3 | At the confluence with Pierce Branch | +101 | Hillsborough County (Unincorporated Areas).
| Approximately 30 feet upstream of Sweat Loop Road | +115
Ponding Area | Entire shoreline within community | +35 | City of Temple Terrace.
Ponding Area | Approximately 400 feet northwest of the intersection of Ojai Avenue and Hacienda Drive | +53.8 | Hillsborough County (Unincorporated Areas).
Ponding Area | Approximately 400 feet northwest of the intersection of Kings Green Drive and Vilmont Greens Drive | +19.1 | Hillsborough County (Unincorporated Areas).
Ponding Area | Approximately 200 feet east of the intersection of 36th Street and Myrtle Tree Lane | +29.1 | Hillsborough County (Unincorporated Areas).
Ponding Area | Approximately 100 feet east of the intersection of Vilmont Greens Drive and Kensington Greens Drive | +29.9 | Hillsborough County (Unincorporated Areas).
Ponding Area | Approximately 370 feet northeast of the intersection of Radison Avenue and Radison Lake Court | +35.6 | Hillsborough County (Unincorporated Areas).
Ponding Area | Approximately 500 feet northeast of the intersection of Kings Boulevard and McDaniel Street | +35.6 | Hillsborough County (Unincorporated Areas).
Ponding Area | Approximately 400 feet southeast of the intersection of Olive Branch Drive and Oxford Park Drive | +36.5 | Hillsborough County (Unincorporated Areas).
Ponding Area | Approximately 500 feet southeast of the intersection of Vista Greens Drive and New Point Loop | +37.8 | Hillsborough County (Unincorporated Areas).
Ponding Area | Approximately 1,600 feet east of the intersection of Vista Greens Drive and New Point Loop | +33 | Hillsborough County (Unincorporated Areas).
Ponding Area | Approximately 600 feet southwest of the intersection of Chipper Drive and Pebble Beach Boulevard | +59.1 | Hillsborough County (Unincorporated Areas).
Ponding Area | Approximately 600 feet southwest of the intersection of Council Drive and Pebble Beach Boulevard | +51.4 | Hillsborough County (Unincorporated Areas).
Ponding Area | Approximately 300 feet southwest of the intersection of Foxhunt Drive and Finsbury Circle | +34 | Hillsborough County (Unincorporated Areas).
Ponding Area | Approximately 300 feet southwest of the intersection of Foxhunt Drive and Foxglove Circle | +31 | Hillsborough County (Unincorporated Areas).
Ponding Area | Approximately 800 feet southeast of the intersection of Nebraska Avenue and 139th Avenue | +44.7 | Hillsborough County (Unincorporated Areas).
Ponding Area | Approximately 1,300 feet southeast of the intersection of Nebraska Avenue and 139th Avenue | +39.3 | Hillsborough County (Unincorporated Areas).
Ponding Area | Approximately 300 feet northeast of the intersection of Lucerne Drive and 143rd Avenue | +43.4 | Hillsborough County (Unincorporated Areas).
Ponding Area | Approximately 200 feet northeast of the intersection of Skipper Road and 16th Street | +43.8 | Hillsborough County (Unincorporated Areas).
Ponding Area | Approximately 800 feet northwest of the intersection of Ojai Avenue and El Rancho Drive | +52.7 | Hillsborough County (Unincorporated Areas).
Ponding Area | Approximately 500 feet southeast of the intersection of Emerald Lake Drive and Del Webb Boulevard | +42.7 | Hillsborough County (Unincorporated Areas).
Ponding Area | Approximately 400 feet south of the intersection of Foxhunt Drive and Finsbury Circle | +37 | Hillsborough County (Unincorporated Areas).
Ponding Areas | Entire shoreline within community, lowest range of elevations found | +105 | City of Plant City.
| Entire shoreline within community, highest range of elevations found | +145
Ponding Areas | Entire shoreline within community, lowest range of elevations found | +8 | Hillsborough County (Unincorporated Areas).
| Entire shoreline within community, highest range of elevations found | +143
Ponding Areas | Entire shoreline within community, lowest range of elevations found | +12 | City of Tampa.
| Entire shoreline within community, highest range of elevations found | +62
Rocky Creek | Approximately 1,400 feet downstream of Linebaugh Avenue | +13 | Hillsborough County (Unincorporated Areas).
| Approximately 300 feet upstream of Hammock Woods Drive | +46
Rocky Creek Tributary 1 | At the confluence with Turkey Ford Lake | +56 | Hillsborough County (Unincorporated Areas).
| Approximately 0.8 mile upstream of Fishermans Bend Drive | +63
Ruskin Inlet/Marsh Branch | Approximately 350 feet downstream of College Avenue | +9 | Hillsborough County (Unincorporated Areas).
| Approximately 0.8 mile upstream of 14th Avenue SE | +21
Six Mile Creek | At the confluence with Tampa Bypass Canal | +11 | Hillsborough County (Unincorporated Areas).
| Approximately 450 feet upstream of Orient Road | +26
South Fork Little Manatee River | At the confluence with Little Manatee River | +35 | Hillsborough County (Unincorporated Areas).
| At the Hillsborough County boundary | +45
Spartman Branch | At the confluence with Pemberton Creek | +88 | Hillsborough County (Unincorporated Areas), City of Plant City.
| At Mud Lake Road | +125
Sweetwater Creek | Approximately 500 feet upstream of Hanley Road | +10 | Hillsborough County (Unincorporated Areas).
| Approximately 65 feet upstream of Orange Grove Drive | +43
Sweetwater Creek Channel H | At the confluence with Sweetwater Creek | +18 | Hillsborough County (Unincorporated Areas).
| Approximately 75 feet downstream of Waters Avenue | +30
Tadpole Creek | At the confluence with Bullfrog Creek | +24 | Hillsborough County (Unincorporated Areas).
| Approximately 70 feet upstream of U.S. Highway 301 | +42
Tampa Bay | Areas within MacDill Air Force Base | +9 | Hillsborough County (Unincorporated Areas), City of Tampa.
Tampa Bypass Canal | At Gate S-160 | +11 | Hillsborough County (Unincorporated Areas).
| At the confluence of Cow House Creek | +35
Tampa Bypass Canal Main Ditch | At the confluence with Tampa Bypass Canal | +15 | Hillsborough County (Unincorporated Areas).
| Approximately 1.5 miles upstream of Eureka Springs Road | +18
Tampa Bypass Canal Tributary 1 | At the confluence with Tampa Bypass Canal | +11 | Hillsborough County (Unincorporated Areas).
| Approximately 40 feet downstream of Lakewood Drive | +34
Tampa Bypass Canal Tributary 1 South Branch | At the confluence with Tampa Bypass Canal Tributary 1 | +15 | Hillsborough County (Unincorporated Areas).
| Approximately 300 feet upstream of the confluence with Tampa Bypass Canal Tributary 1 | +16
Tampa Bypass Canal Tributary 2 | Approximately 200 feet upstream of the confluence with Tampa Bypass Canal | +10 | Hillsborough County (Unincorporated Areas).
| Approximately 20 feet upstream of railroad | +22
Tiger Creek | At the confluence with Blackwatch Creek | +83 | Hillsborough County (Unincorporated Areas).
| On the upstream side of Half Mile Road | +100
Trout Creek | At the confluence with Hillsborough River | +35 | Hillsborough County (Unincorporated Areas), City of Tampa.
| At the Hillsborough County boundary | +49
Tucker Rhodine | Approximately 0.3 mile from the confluence with Bullfrog Creek | +22 | Hillsborough County (Unincorporated Areas).
| Approximately 0.6 mile upstream of the confluence with Bullfrog Creek | +39
Two Hole Branch | At the confluence with Hillsborough River | +37 | Hillsborough County (Unincorporated Areas).
| Approximately 1.5 miles upstream of Bruton Road | +93
Two Hole Branch Tributary 1 | At the confluence with Two Hole Branch | +69 | Hillsborough County (Unincorporated Areas).
| Approximately 2.6 miles upstream of Bob Smith Avenue | +97
Wildcat Creek | Approximately 1.7 miles upstream of the confluence with Little Manatee River | +9 | Hillsborough County (Unincorporated Areas).
| Approximately 0.7 mile upstream of Stephens Road | +15
* National Geodetic Vertical Datum.
+ North American Vertical Datum.
# Depth in feet above ground.
ADDRESSES
City of Plant City
Maps are available for inspection at the Plant City City Hall, 302 West Reynolds Street, Plant City, Florida.
City of Tampa
Maps are available for inspection at the City of Tampa Construction Services Center, 1400 North Boulevard, Tampa, Florida.
City of Temple Terrace
Maps are available for inspection at the City of Temple Terrace Engineering Department, 11210 North 53rd Street, Temple Terrace, Florida.
Unincorporated Areas of Hillsborough County
Maps are available for inspection at the Hillsborough County Department of Planning and Growth Management, 5701 East Hillsborough Avenue, Suite 1140, Tampa, Florida.
Lee County, Florida and Incorporated Areas
Docket No.: FEMA-D-7680
Bayshore Creek | Approximately 600 feet downstream of Jamestown Circle | +7 | Lee County (Unincorporated Areas).
| At Nalle Grade Road | +23
Bedman Creek/Dog Canal | Approximately 700 feet downstream of Palm Beach Boulevard | +8 | Lee County (Unincorporated Areas).
| Approximately 2.6 miles upstream of Weir S-D-2 | +26
Billy Creek | At upstream side of Veronica Shoemaker Boulevard | +8 | Lee County (Unincorporated Areas), City of Fort Myers.
| Approximately 0.4 mile upstream of Oritz Circle | +17
Caloosahatchee River | At intersection of Cohn Road and Marsh Cove Lane | +8 | Lee County (Unincorporated Areas), City of Cape Coral, City of Fort Myers.
| Approximately 0.4 mile south of intersection of Tarpon Estates Boulevard and Tarpon Estates Court | +11
Carrell Canal | Approximately 900 feet upstream of confluence with Caloosahatchee River | +7 | City of Fort Myers.
| Approximately 375 feet upstream of Evans Avenue | +13
Chapel Branch Creek | Approximately 600 feet downstream of Samville Road | +7 | Lee County (Unincorporated Areas).
| Approximately 650 feet upstream of Rich Road | +20
Charlotte Harbor | At intersection of Kismet Parkway and Burnt Stove Road | +6 | Lee County (Unincorporated Areas), City of Cape Coral.
| Approximately 0.7 mile west from Old Burnt Stove Road and 48th Terrace intersection (follow Yucca Creek) | +10
Cypress Creek | Approximately 800 feet downstream of North River Road | +8 | Lee County (Unincorporated Areas).
| Approximately 3.0 miles upstream of North River Road | +18
Daughtrey Creek | Approximately 0.4 mile downstream of Bayshore Road | +7 | Lee County (Unincorporated Areas).
| Approximately 0.9 mile upstream of Nalle Grade Road | +24
East Branch Daughtrey Creek | At downstream side of Bayshore Road | +7 | Lee County (Unincorporated Areas).
| At Nalle Grade Road | +23
East Branch Yellow Fever Creek | Approximately 0.2 mile downstream of Pine Island Road | +7 | Lee County (Unincorporated Areas), City of Cape Coral.
| At upstream side of U.S. 41 Culvert | +18
Estero Bay | Approximately 0.3 mile west of intersection of Baybridge Boulevard and Bridge Run Court | +11 | Lee County (Unincorporated Areas), City of Bonita Springs, Town of Fort Myers Beach.
| Approximately 0.5 mile west of intersection of Redfish Street and Spring Creek Drive | +15
Estero River | Approximately 0.4 mile downstream of South Tamiami Trail | +11 | Lee County (Unincorporated Areas).
| Approximately 0.4 mile upstream of I-75 | +21
Fichter Creek | Approximately 1,000 feet upstream of the confluence with Caloosahatchee River | +7 | Lee County (Unincorporated Areas).
| Approximately 50 feet upstream of Fichters Creek Lane | +15
Ford Street Canal | At upstream side of Gallee Way | +9 | City of Fort Myers.
| Approximately 200 feet downstream of Hanson Street | +18
Gulf of Mexico | Approximately 1,000 feet west of the Pelican Pass and Charlotte Harbor Mouth (Cayo Costa Island) | +8 | Lee County (Unincorporated Areas), City of Bonita Springs, City of Sanibel, Town of Fort Myers Beach.
| Approximately 500 feet west of intersection of Estero Boulevard and Hickory Boulevard | +20
Halfway Creek | Approximately 0.6 mile downstream of U.S. Route 41 | +11 | Lee County (Unincorporated Areas).
| Approximately 100 feet upstream of Railroad | +16
Halls Creek | Approximately 500 feet upstream of North River Road | +7 | Lee County (Unincorporated Areas).
| Approximately 0.6 mile upstream of North River Road | +13
Hancock Creek | Approximately 100 feet upstream of Barrett Road | +7 | Lee County (Unincorporated Areas), City of Cape Coral.
| Approximately 100 feet upstream of Diplomat Parkway | +11
Hickey Creek | Approximately 1,000 feet upstream of Palm Beach Boulevard | +8 | Lee County (Unincorporated Areas).
| At the confluence of Hickey Creek Drainageway | +10
Hickey Creek (upstream of Hickey Creek Drainageway) | At confluence of Hickey Creek | +10 | Lee County (Unincorporated Areas).
| Approximately 800 feet upstream of confluence of Hickey Creek | +10
Hickey Creek Drainageway | At the confluence with Hickey Creek | +10 | Lee County (Unincorporated Areas).
| Approximately 1.1 miles upstream of 17th Street | +22
Kickapoo Creek | At upstream side of Bayshore Road | +8 | Lee County (Unincorporated Areas).
| Approximately 0.2 mile upstream of Old Bayshore Road | +8
L-3 Canal | At the confluence with L Canal | +8 | Lee County (Unincorporated Areas), City of Fort Myers.
| Approximately 0.4 mile upstream of Fowler Street | +14
Leitner Creek | Approximately 800 feet upstream of Terry Street | +12 | City of Bonita Springs.
| Approximately 0.3 mile upstream of I-75 | +14
Manuels Branch | At upstream side of McGregor Boulevard | +7 | City of Fort Myers.
| Approximately 975 feet upstream of Evans Avenue | +12
Marsh Point Creek | At upstream side of Bayshore Road | +7 | Lee County (Unincorporated Areas).
| At Payne Lane | +14
Matlacha Pass | Approximately 0.5 mile east of intersection of Game Bird Lane and Ficus Tree Lane | +6 | Lee County (Unincorporated Areas), City of Cape Coral.
| Approximately 0.7 mile east of intersection of Tropical Point Drive and Cove Street | +11
Mullock Creek | Approximately 300 feet downstream of Constitution Circle | +10 | Lee County (Unincorporated Areas).
| At Oriole Road | +15
Mullock Creek Tributary | Approximately 0.2 mile downstream of South Tamiami Trail | +11 | Lee County (Unincorporated Areas).
| Approximately 150 feet upstream of South Tamiami Trail | +13
North Colonial Waterway | At the confluence with Ten Mile Canal | +17 | City of Fort Myers.
| Approximately 400 feet upstream of Milan Drive | +17
Oak Creek | At Imperial Street | +11 | City of Bonita Springs.
| Approximately 1,000 feet upstream of Imperial Street | +11
Orange River | Approximately 2.5 miles upstream of Palm Beach Boulevard | +8 | Lee County (Unincorporated Areas).
| Approximately 2.5 miles upstream of Buckingham Road | +17
Owl Creek | Approximately 1,000 feet downstream of North River Road | +7 | Lee County (Unincorporated Areas).
| Approximately 0.2 mile upstream of Shirley Lane | +20
Palm Creek | At downstream side of Bayshore Road | +7 | Lee County (Unincorporated Areas).
| Approximately 50 feet downstream of Sharon Drive | +22
Pine Island Sound | Approximately 500 feet west of intersection of State Route 767 and Helen Road | +6 | Lee County (Unincorporated Areas), City of Sanibel.
| At intersection of Seair Lane and Sol Vista Drive on Captiva Island | +12
Popash Creek | Approximately 0.3 mile upstream of Bayshore Road | +7 | Lee County (Unincorporated Areas).
| At County boundary | +25
Powell Bypass | At Weir Valencia | +12 | Lee County (Unincorporated Areas).
| Approximately 2.0 miles upstream of Mellow Drive | +20
Powell Creek | Approximately 0.3 mile upstream of Brooks Road | +7 | Lee County (Unincorporated Areas).
| At Weir Valencia | +12
Powell Creek Tributary No. 1 | At confluence with Powell Creek | +7 | Lee County (Unincorporated Areas).
| Approximately 0.4 mile upstream of the confluence with Powell Creek | +10
San Carlos Bay | At intersection of Sanibel Boulevard and Bay View Avenue | +7 | Lee County (Unincorporated Areas), City of Cape Coral, City of Sanibel, Town of Fort Myers Beach.
| Approximately 500 feet south of intersection of Punta Rassa Road and McGregor Boulevard | +20
Six Mile Cypress Slough | At confluence with Ten Mile Canal | +13 | Lee County (Unincorporated Areas), City of Fort Myers.
| At State Route 82 | +22
South Branch | At confluence with Estero River | +13 | Lee County (Unincorporated Areas).
| At upstream side of I-75 | +17
Spanish Canal | At confluence with Spanish Creek | +13 | Lee County (Unincorporated Areas).
| Approximately 0.8 mile upstream of confluence with Spanish Creek | +18
Spanish Creek | Approximately 900 feet upstream of confluence with Caloosahatchee River | +8 | Lee County (Unincorporated Areas).
| Approximately 0.2 mile upstream of Persimmon Ridge Road | +19
Spring Creek | Approximately 500 feet downstream of Railroad | +11 | City of Bonita Springs.
| Approximately 0.4 mile upstream of Railroad | +13
Stricklin Gully | At confluence with Trout Creek/Curry Lake Canal | +13 | Lee County (Unincorporated Areas).
| Approximately 1.4 miles upstream of confluence with Trout Creek/Curry Lake Canal | +18
Stroud Creek | Approximately 100 feet upstream of Bayshore Road | +7 | Lee County (Unincorporated Areas).
| Approximately 0.2 mile upstream of St. Paul Road | +23
Telegraph Creek | Approximately 1,000 feet upstream of confluence with Caloosahatchee River | +8 | Lee County (Unincorporated Areas).
| Approximately 1.5 miles upstream of Telegraph Creek Lane | +18
Ten Mile Canal | Approximately 1,500 feet downstream of Briarcliff Road | +11 | Lee County (Unincorporated Areas), City of Fort Myers.
| At Hanson Street | +17
Trout Creek/Curry Lake Canal | At downstream side of North River Road | +8 | Lee County (Unincorporated Areas).
| At County boundary | +23
Winkler Canal | Approximately 700 feet upstream of the confluence with Caloosahatchee River | +7 | City of Fort Myers.
| Approximately 125 feet upstream of Evans Avenue | +14
Yellow Fever Creek | Approximately 1,000 feet downstream of Pine Island Road | +7 | Lee County (Unincorporated Areas), City of Cape Coral.
| Approximately 0.5 mile upstream of Littleton Road | +11
* National Geodetic Vertical Datum.
+ North American Vertical Datum.
# Depth in feet above ground.
ADDRESSES
City of Bonita Springs
Maps are available for inspection at the City of Bonita Springs Administration Office, 9101 Bonita Beach Road, Bonita Springs, Florida.
City of Cape Coral
Maps are available for inspection at the City of Cape Coral Community Development Department, 1015 Cultural Park Boulevard, Cape Coral, Florida.
City of Fort Myers
Maps are available for inspection at the City of Fort Myers Community Development Department, 1825 Hendry Street, Suite 101, Fort Myers, Florida.
Town of Fort Myers Beach
Maps are available for inspection at the Town of Fort Myers Beach Council Chambers, 2523 Estero Boulevard, Fort Myers Beach, Florida.
City of Sanibel
Maps are available for inspection at the Sanibel City Hall, Planning Department, 800 Dunlop Road, Sanibel, Florida.
Unincorporated Areas of Lee County
Maps are available for inspection at the Lee County Community Development Department, 1500 Monroe Street, 2nd Floor, Fort Myers, Florida.

Source of flooding and location | Range of elevations in feet (NAVD)
FLORIDA
Marion County (FEMA Docket No. D-7668)
City of Belleview
Unnamed Ponding Areas | +65-+108
Maps available for inspection at the Belleview City Hall, Public Works Department, 5343 Southeast Abshier Boulevard, Belleview, Florida.
City of Dunnellon
Unnamed Ponding Areas | +32-+69
Maps available for inspection at the Dunnellon City Hall, 20750 River Drive Dunnellon, Florida.
Marion County (Unincorporated Areas)
Unnamed Ponding Areas (primarily, but not exclusively located west of Interstate 75) | +6-+200
Maps available for inspection at the Marion County Transportation Department, 412 Southeast 25th Avenue, Ocala, Florida. For more information, please contact the Marion County Stormwater Division at (352) 671-8686.
Town of McIntosh
Orange Lake | +61
Maps available for inspection at the McIntosh Town Hall, 5975 Avenue G, McIntosh, Florida.
City of Ocala
Unnamed Ponding Areas | +48-+133
Maps available for inspection at the City of Ocala Engineering Department, 405 Southewast Osceola Avenue, Ocala, Florida.

Flooding source(s) | Location of referenced elevation | *Elevation in feet (NGVD) +Elevation in feet (NAVD) #Depth in feet above ground Modified | Communities affected
Erie County, Ohio, and Incorporated Areas
Docket No.: FEMA-B-7735
Boos Ditch | Approximately 400 feet from mouth | +577 | Unincorporated Areas of Erie County.
| Mouth at Lake Erie | +577
Hahn Creek | Mouth at Lake Erie | +577 | City of Huron.
| Downstream of Cleveland Road | +577
Huron River | Mouth at Lake Erie | +577 | City of Huron.
| Approximately 3,700 feet upstream of Norfolk Southern Corporation Railroad | +577
Lake Erie | Entire Lake Erie coastline from the western City of Huron corporate limits to eastern corporate limits. Spans multiple Lake Erie reaches. Minor changes in floodplain boundaries | +577 | City of Huron.
| Entire Lake Erie coastline from the western City of Huron corporate limits to eastern corporate limits. Spans multiple Lake Erie reaches. Minor changes in floodplain boundaries | +577
| Entire Lake Erie coastline from the western City of Huron corporate limits to eastern corporate limits. Spans multiple Lake Erie reaches. Minor changes in floodplain boundaries | +577
| Entire Lake Erie coastline from the western City of Huron corporate limits to eastern corporate limits. Spans multiple Lake Erie reaches. Minor changes in floodplain boundaries | +577
Lake Erie | Entire Lake Erie coastline from the western City of Sandusky corporate limits to eastern corporate limits. Spans multiple Lake Erie reaches. Minor changes in floodplain boundaries | +577 | City of Sandusky.
Lake Erie | Entire Lake Erie coastline from the western Village of Kelleys Island corporate limits to eastern corporate limits. Minor changes in floodplain boundaries | +578 | Village of Kelleys Island.
Lake Erie | Entire Lake Erie coastline within Erie County. Spans multiple Lake Erie reaches. Minor changes in floodplain boundaries | +577 | Unincorporated Areas of Erie County.
| Entire Lake Erie coastline within Erie County. Spans multiple Lake Erie reaches. Minor changes in floodplain boundaries | +577
Mudbrook Creek | Mouth at Huron River | +577 | City of Huron.
| Downstream of Mudbrook Road | +577
Plum Creek | Downstream of US6 Highway | +577 | Unincorporated Areas of Erie County.
| Mouth at Lake Erie | +577
Sawmill Creek | Approximately 1,900 feet upstream from mouth | +577 | Unincorporated Areas of Erie County.
| Mouth at Lake Erie | +577
* National Geodetic Vertical Datum.
+ North American Vertical Datum.
# Depth in feet above ground.
ADDRESSES
City of Huron
Maps are available for inspection at Huron Township Station, 1820 Bogart Road, Huron, OH 48839.
City of Sandusky
Maps are available for inspection at 222 Meigs Street, Sandusky, OH 44870.
Unincorporated Areas of Erie County
Maps are available for inspection at 2900 Columbus Avenue, Sandusky, OH 44870.
Village of Bay View
Maps are available for inspection at 304 East Bay View Drive, Sandusky, OH 44870.
Village of Berlin Heights
Maps are available for inspection at 8 West Main Street, Berlin Heights, OH 44814.
Village of Castalia
Maps are available for inspection at 126 Main Street, Castalia, OH 44824.
Village of Kelleys Island
Maps are available for inspection at Municipal Building of Kelleys Island, 121 Addison Street, Kelley Island, OH 43438.
Village of Milan
Maps are available for inspection at 11 South Main Street, PO Box 1450, Milan, OH 44846.
Monroe County, New York (All Jurisdictions)
Docket No.: FEMA-B-7742 and FEMA-D-7828
East Branch Larkin Creek | At Northbridge Road | +380 | Town of Greece.
| Approximately 1,440 feet upstream of St. Andrews Dam | +456
East Branch Red Creek | At confluence with Middle Branch Red Creek | +523 | Town of Henrietta.
| Approximately 2,400 feet upstream of Erie Station Road | +572
East Branch Round Pond Creek Reach 1 | Approximately 50 feet downstream of Ridgeway Avenue on 249-NY | +472 | Town of Greece.
| Approximately 690 feet upstream of Indigo Creek Drive | +515
East Branch Shipbuilders Creek | At railroad | +328 | Town of Webster.
| Approximately 1,800 feet upstream of Dirt Track | +430
East Branch Tributary Red Creek | At confluence with East Branch Red Creek | +530 | Town of Henrietta.
| Approximately 150 feet upstream of East Henrietta Road | +574
East Stem Middle Branch Red Creek | At confluence with Middle Branch Red Creek and West Stem Middle Branch Red Creek | +524 | Town of Henrietta.
| Approximately 150 feet upstream of centerline of Erie Station Road | +578
Irondequoit Creek Reach 1 | Approximately 387 feet downstream of Linden Avenue | +357 | Village of East Rochester.
| Approximately 1,600 feet upstream of Ontario Street | +380
Larkin Creek | At approximately 20 feet upstream of Lake Ontario State Parkway | +255 | Town of Greece, Town of Ogden.
| Approximately 430 feet upstream of Black Forest Drive in Town of Ogden | +464
Middle Branch Red Creek | At confluence with Red Creek and East Branch Red Creek | +523 | Town of Henrietta.
| At confluence with East and West Stem Middle Branch Red Creek | +524
Northrup Creek | At Flynn Road | +249 | Town of Greece, Town of Ogden, Town of Parma, Village of Spencerport.
| Approximately 612 feet upstream of Wood Duck Run | +593
Red Creek | At confluence with New York State Barge Canal | +514 | Town of Henrietta, City of Rochester, Town of Brighton.
| At confluence with Middle and East Branch Red Creek | +523
Round Pond Creek Reach 1 | At Island Cottage Road | +257 | Town of Greece.
| Approximately 4,400 feet downstream of Flood Control Dam | +461
South Stem East Branch Tributary Red Creek | At confluence with East Branch Tributary Red Creek | +553 | Town of Henrietta.
| Approximately 42 feet upstream of East Henrietta Road | +582
West Branch Red Creek | At confluence with Red Creek | +518 | City of Rochester, Town of Brighton.
| At Bridge to Park Dump | +519
West Stem Middle Branch Red Creek | At confluence with Middle Branch Red Creek and East Stem Middle Branch Red Creek | +524 | Town of Henrietta.
| Approximately 270 feet upstream of Erie Station Road | +563
+ North American Vertical Datum.
* National Geodetic Vertical Datum.
# Depth in feet above ground.
ADDRESSES
City of Rochester
Maps are available for inspection at Rochester City Hall, 30 Church Street, Rochester, New York.
Town of Brighton
Maps are available for inspection at Brighton Town Hall, 2300 Elmwood Avenue, Rochester, New York.
Town of Greece
Maps are available for inspection at Town of Greece Department of Public Works, 697 Long Pond Road, Rochester, New York.
Town of Henrietta
Maps are available for inspection at Henrietta Town Hall, 475 Calkins Road, Henrietta, New York.
Town of Ogden
Maps are available for inspection at Ogden Town Hall, 269 Ogden Center Road, Spencerport, New York.
Town of Parma
Maps are available for inspection at Parma Town Hall, 1300 Hilton-Parma Corners Road, Hilton, New York.
Town of Perinton
Maps are available for inspection at Perinton Town Hall, 1350 Turk Hill Road, Fairport, New York.
Town of Webster
Maps are available for inspection at Webster Town Hall, 1000 Ridge Road, Webster, New York.
Village of East Rochester
Maps are available for inspection at East Rochester Village Hall, 120 West Commercial Street, East Rochester, New York.
Village of Spencerport
Maps are available for inspection at Spencerport Village Building Department, 269 Ogden Center Road, Spencerport, New York.
Rutland County, Vermont (All Jurisdictions)
Docket No.: FEMA-B-7746
Clarendon River | Approximately 1,700 feet upstream of confluence with Otter Creek | +487 | Town of Rutland.
| At the confluence with Otter Creek | +487
Curtis Brook | At the confluence with East Creek | +663 | Town of Rutland.
| Approximately 500 feet upstream of confluence with East Creek | +667
East Creek | At the confluence with Otter Creek | +532 | City of Rutland, Town of Rutland.
| Approximately 1.07 miles upstream of East Pittsford Road | +752
Homer Stone Brook | At the confluence with Otter Creek | +630 | Town of Wallingford.
| Approximately 75 feet upstream of confluence with Otter Creek | +632
Lake St. Catherine (Little Lake) | Entire shoreline within the Town of Poultney | +486 | Town of Poultney.
Moon Brook | At the downstream side of Granger Street | +533 | City of Rutland.
| Approximately 2,964 feet upstream of Sharon Drive | +699
Otter Creek | At upstream side of Center Rutland Dam | +515 | Town of Clarendon, City of Rutland, Town of Danby, Town of Rutland, Town of Wallingford.
| Approximately 1.09 miles upstream of confluence of Homer Stone Brook | +642
Roaring Brook | At the confluence with Otter Creek | +567 | Town of Wallingford.
| Approximately 165 feet upstream of confluence with Otter Creek | +571
* National Geodetic Vertical Datum.
+ North American Vertical Datum.
# Depth in feet above ground.
ADDRESSES
City of Rutland
Maps are available for inspection at Rutland City Clerk's Office, 1 Strongs Avenue, Rutland, Vermont.
Town of Clarendon
Maps are available for inspection at Clarendon Town Hall, 279 Middle Road, North Clarendon, Vermont.
Town of Danby
Maps are available for inspection at Danby Town Hall, 130 Brook Road, Danby, Vermont.
Town of Poultney
Maps are available for inspection at Poultney Town Clerk's Office, 9 Main Street, Poultney, Vermont.
Town of Rutland
Maps are available for inspection at Rutland Town Clerk's Office, 181 Business Route 4, Center Rutland, Vermont.
Town of Wallingford
Maps are available for inspection at Wallingford Town Clerk's Office, 75 School Street, Wallingford, Vermont.
Carroll County, Virginia, and Incorporated Areas
Docket Nos.: FEMA-B-7742 & D-7828
Chestnut Creek | Approximately 2450 feet downstream of Cliffview Road | +2298 | Unincorporated Areas of Carroll County.
| Approximately 7500 feet upstream of Cliffview Road | +2332
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
ADDRESSES
Unincorporated Areas of Carroll County
Maps are available for inspection at Building Officials Office, 605-1 Pine Street, Hillsville, VA 24343.
City of Galax, Virginia
Docket Nos.: FEMA-B-7742 & D-7828
Chestnut Creek | Just upstream of Cliffview Road | +2308 | City of Galax.
| Approximately 7500 feet upstream of Cliffview Road | +2332
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
ADDRESSES
City of Galax
Maps are available for inspection at Galax Municipal Building, 111 East Grayson Street, Galax, VA 24333.
Grayson County, Virginia, and Incorporated Areas
Docket Nos.: FEMA-B-7742 & D-7828
Chestnut Creek | Near Sewage Treatment Plant, just upstream of County Boundary | +2332 | Unincorporated Areas of Grayson County.
| Near Sewage Treatment Plant, approximately 375 feet downstream of old Railroad Bridge | +2335
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
ADDRESSES
Unincorporated Areas of Grayson County
Maps are available for inspection at County Administrator's Office, 129 Davis Street, Independence, VA 24348.

(Catalog of Federal Domestic Assistance No. 97.022, “Flood Insurance.”)

Dated: March 17, 2008.
David I. Maurstad,
Federal Insurance Administrator of the National Flood Insurance Program, Department of Homeland Security, Federal Emergency Management Agency.

[FR Doc. E8-6911 Filed 4-2-08; 8:45 am]

BILLING CODE 9110-12-P